DEPARTMENT OF HOMELAND SECURITY

Coast Guard

[Docket No. USCG-2020-0042]

Consolidation of Redundant Coast Guard Boat Stations—Decision; Correction

AGENCY: Coast Guard, DHS.

ACTION: Notice; correction to docket number.

SUMMARY: The Coast Guard published a document in the Federal Register on March 30, 2021, concerning a notice of a decision on a consolidation of Coast Guard boat stations. The document contained an incorrect docket number.

DATES: This correction is effective April 5, 2021.

FOR FURTHER INFORMATION CONTACT: For information about this document call or email Todd Aikins, Coast Guard Office of Boat Forces; telephone 202-372-2463, email todd.r.aikins@uscg.mil.

SUPPLEMENTARY INFORMATION:

Correction

In the Federal Register of March 30, 2021, in FR Doc. 2021-06461, on page 16604, in the second column, in the heading, the docket number, “USCG-2021-0178”, is corrected to read “USCG-2020-0042”. This corrects the error in the docket number and will ensure that this decision notice will be placed in the same docket as the notice soliciting comments regarding these boat stations (85 FR 8601, February 14, 2020).

Dated: March 30, 2021.
J.E. McLeod,
Acting Office Chief, Office of Regulations and Administrative Law.

[FR Doc. 2021-06876 Filed 4-2-21; 8:45 am]

BILLING CODE 9110-04-P